DEPARTMENT OF HOMELAND SECURITY

[Docket No. DHS-2007-0089]

Homeland Security Advisory Council/Secure Borders Open Doors Advisory Committee

AGENCY: Policy Directorate, DHS.

ACTION: Notice of Federal Advisory Committee Teleconference Meeting and Subcommittee Meeting.

SUMMARY: The Homeland Security Advisory Council (HSAC) will meet via teleconference for purposes of reviewing recommendations from the Secure Borders Open Doors Advisory Committee (SBODAC), an HSAC subcommittee. Later in the day, the SBODAC will meet to provide an overview of their recommendations, receive a progress report on various programs/initiatives within the Rice-Chertoff Initiative and to hold member deliberations. In the public interest and in an attempt to maximize openness, we are opening part of this SBODAC meeting to the public even though FACA subcommittee meetings are not required to be open. These meetings will be coordinated closely with the Department of State.

DATE: Wednesday, January 16, 2008. HSAC conference call from 10 a.m. to 11a.m. EST. Details for the public portion of the SBODAC's additional meetings are not yet finalized—individuals interested in participating in any open subcommittee sessions should follow instructions as outlined below (see “Public Attendance”).

ADDRESSES: The HSAC meeting will be held via teleconference. The SBODAC meeting will be held at a yet to be determined location in the Washington, DC area. Members of the public interested in participating in this teleconference and/or subcommittee meeting may do so by following the process outlined below (see “Public Attendance”).

If you desire to submit written comments, they must be submitted by January 9, 2008. Comments must be identified by DHS-2007-0089 and may be submitted by one of the following methods:

• Federal eRulemaking Portal: http://www.regulations.gov. Follow the instructions for submitting comments.

• E-mail: HSAC@dhs.gov. Include docket number in the subject line of the message.

• Fax: (202) 282-9207.

• Mail: Ms. Jennifer Myers, Homeland Security Advisory Council, Department of Homeland Security, Mailstop 0850, 245 Murray Lane, SW., Washington, DC 20528.

Instructions: All submissions received must include the words “Department of Homeland Security” and DHS-2007-0089, the docket number for this action. Comments received will be posted without alteration at http://www.regulations.gov, including any personal information provided.

Docket: For access to the docket to read background documents or comments received by the DHS Homeland Security Advisory Council, go to http://www.regulations.gov.

FOR FURTHER INFORMATION CONTACT: Jennifer Myers, Homeland Security Advisory Council, Washington, DC 20528, (202) 447-3135, HSAC@dhs.gov.

SUPPLEMENTARY INFORMATION: Notice of this meeting is given under the Federal Advisory Committee Act, 5 U.S.C. App. (Pub. L. 92-463). The HSAC exists to provide independent advice to the Secretary of the Department of Homeland Security aiding in the creation of expeditious implementation of critical and actionable policy and operational capacities across the spectrum of homeland security operations. The HSAC shall periodically report, as appropriate, to the Secretary on matters within the scope of that function. The HSAC serves as an advisory body with the goal of providing advice upon the request of the Secretary.

The HSAC will meet to review recommendations from the SBODAC, a committee formed as part of the Rice-Chertoff Initiative. The SBODAC has examined four areas: (1) Public Diplomacy and International Outreach, (2) Visa Policy and Processing, (3) Ports of Entry, and (4) Metrics and Critical Success Factors.

Public Attendance: Members of the public may register to participate in this HSAC teleconference via the procedures that follow. Each individual must provide his or her full legal name and email address or phone number no later than 5 p.m. EST., January 9, 2008, to Jennifer Myers or a staff member of the HSAC via e-mail at HSAC@dhs.gov or via phone at (202) 447-3135. Individuals interested in participating in any open sessions of the SBODAC meeting that will follow the HSAC conference call should also follow above outlined procedures. HSAC conference call details and SBODAC meeting details will be provided to interested members of the public.

Information on Services for Individuals with Disabilities: For information on facilities or services for individuals with disabilities, or to request special assistance at the meeting, contact Jennifer Myers as soon as possible.

Dated: December 19, 2007.
Doug Hoelscher,
Executive Director, Homeland Security Advisory Committees.

[FR Doc. E7-25138 Filed 12-27-07; 8:45 am]

BILLING CODE 4410-10-P